DEPARTMENT OF COMMERCE

National Oceanic and Atmospheric Administration

50 CFR Part 665

[Docket No. 131028907-4042-02]

RIN 0648-XC954

Pacific Island Fisheries; 2014 Annual Catch Limits and Accountability Measures

AGENCY: National Marine Fisheries Service (NMFS), National Oceanic and Atmospheric Administration (NOAA), Commerce.

ACTION: Final specifications.

SUMMARY: In this rule, NMFS specifies the 2014 annual catch limits for Pacific Island bottomfish, crustacean, precious coral, and coral reef ecosystem fisheries, and accountability measures to correct or mitigate any overages of catch limits. The catch limits and accountability measures support the long-term sustainability of fishery resources of the U.S. Pacific Islands.

DATES: The final specifications are effective February 26, 2014, through December 31, 2014.

ADDRESSES: Copies of the fishery ecosystem plans are available from the Western Pacific Fishery Management Council (Council), 1164 Bishop St., Suite 1400, Honolulu, HI 96813, tel 808-522-8220, fax 808-522-8226, or www.wpcouncil.org. Copies of the environmental assessments and findings of no significant impact for this action, identified by NOAA-NMFS-2013-0156, are available from www.regulations.gov, or from Michael D. Tosatto, Regional Administrator, NMFS Pacific Islands Region (PIR), 1601 Kapiolani Blvd. 1110, Honolulu, HI 96814.

FOR FURTHER INFORMATION CONTACT: Jarad Makaiau, NMFS PIR Sustainable Fisheries, 808-944-2108.

SUPPLEMENTARY INFORMATION: NMFS is specifying the 2014 annual catch limits (ACLs) and accountability measures (AMs) for bottomfish, crustacean, precious coral, and coral reef ecosystem fishery management unit species (MUS) in the U.S. Exclusive Economic Zone (EEZ, generally 3-200 nm from shore) around American Samoa, Guam, the Commonwealth of the Northern Mariana Islands (CNMI), and Hawaii. NMFS proposed these specifications on December 20, 2013 (78 FR 77089), and the final specifications do not differ from that proposal. The 2014 fishing year begins on January 1, and ends on December 31, except for precious coral fisheries, for which the fishing year began on July 1, 2013, and ends on June 30, 2014. The ACLs and AMs are identical to those that NMFS specified for these fisheries in 2013.

NMFS is not specifying ACLs for MUS that are currently subject to Federal fishing moratoria or prohibitions. These MUS include all species of gold coral (78 FR 32181, May 29, 2013), the three Hawaii seamount groundfish, that is, pelagic armorhead, alfonsin, and raftfish (75 FR 69015, November 10, 2010), and deepwater precious corals at the Westpac Bed Refugia (75 FR 2198, January 14, 2010). The current prohibitions on fishing for these MUS serve as the functional equivalent of an ACL of zero.

Additionally, NMFS is not specifying ACLs for bottomfish, crustacean, precious coral, or coral reef ecosystem MUS identified in the Pacific Remote Islands Area (PRIA) FEP. On June 3, 2013, NMFS published a final rule (78 FR 32996), implementing fishing requirements for the Pacific Remote Islands Marine National Monument (Monument), which include a prohibition on all fishing in the EEZ within 12 nm of emergent land, unless authorized by the U.S. Fish and Wildlife Service. NMFS is not proposing ACLs for PRIA FEP bottomfish, crustacean, precious coral, or coral reef ecosystem fisheries because there is no suitable habitat for these fisheries beyond the 12-nm no-fishing zone, except at Kingman Reef, where fishing for these resources does not occur. Therefore, the current prohibitions on fishing serve as the functional equivalent of an ACL of zero. However, NMFS will continue to monitor authorized fishing within the Monument in consultation with the U.S. Fish and Wildlife Service, and may develop additional fishing requirements, including Monument-specific catch limits for species that may require them.

NMFS is also not proposing ACLs for pelagic MUS at this time, because NMFS previously determined that pelagic species are subject to international fishery agreements or have a life cycle of approximately one year and, therefore, are statutorily excepted from the ACL requirements.

2014 Annual Catch Limit Specifications

The ACL specifications for Pacific Island fisheries are listed in Tables 1-4.

Table 1—American Samoa
Fishery | Management unit species | Final ACL specification (lb)
Bottomfish | Bottomfish multi-species stock complex | 101,000
Crustacean | Deepwater Shrimp | 80,000
| Spiny Lobster | 2,300
| Slipper Lobster | 30
| Kona Crab | 3,200
Precious Coral | Black Coral | 790
| Precious Corals in the American Samoa Exploratory Area | 2,205
Coral Reef Ecosystem | Acanthuridae—surgeonfish | 19,516
| Lutjanidae—snappers | 18,839
| Selar crumenophthalmus—atule or bigeye scad | 8,396
| Mollusks—turbo snail; octopus; giant clams | 16,694
| Carangidae—jacks | 9,490
| Lethrinidae—emperors | 7,350
| Scaridae—parrotfish | 8,145
| Serranidae—groupers | 5,600
| Holocentridae—squirrelfish | 2,585
| Mugilidae—mullets | 2,857
| Crustaceans—crabs | 2,248
| Bolbometopon muricatum—bumphead parrotfish | 235
| Cheilinus undulatus—Humphead (Napoleon) wrasse | 1,743
| Carcharhinidae—Reef Sharks | 1,309
| All Other CREMUS combined | 18,910

Table 2—Mariana Archipelago—Guam
Fishery | Management unit species | Final ACL specification (lb)
Bottomfish | Bottomfish multi-species stock complex | 66,800
Crustaceans | Deepwater Shrimp | 48,488
| Spiny Lobster | 2,700
| Slipper Lobster | 20
| Kona Crab | 1,900
Precious Coral | Black Coral | 700
| Precious Corals in the Guam Exploratory Area | 2,205
Cora Reef Ecosystem | Acanthuridae—surgeonfish | 70,702
| Carangidae—jacks | 45,377
| Selar crumenophthalmus—atulai or bigeye scad | 56,514
| Lethrinidae—emperors | 38,720
| Scaridae—parrotfish | 28,649
| Mullidae—goatfish | 25,367
| Mollusks—turbo snail; octopus; giant clams | 21,941
| Siganidae—rabbitfish | 26,120
| Lutjanidae—snappers | 17,726
| Serranidae—groupers | 17,958
| Mugilidae—mullets | 15,032
| Kyphosidae—chubs/rudderfish | 13,247
| Crustaceans—crabs | 5,523
| Holocentridae—squirrelfish | 8,300
| Algae | 5,329
| Labridae—wrasses | 5,195
| Bolbometopon muricatum—bumphead parrotfish | ¹ 797
| Cheilinus undulatus—Humphead (Napoleon) wrasse | 1,960
| Carcharhinidae—Reef Sharks | 6,942
| All Other CREMUS combined | 83,214
¹ (CNMI and Guam combined)

Table 3—Mariana Archipelago—CNMI
Fishery | Management unit species | Final ACL specification (lb)
Bottomfish | Bottomfish multi-species stock complex | 228,000
Crustacean | Deepwater Shrimp | 275,570
| Spiny Lobster | 5,500
| Slipper Lobster | 60
| Kona Crab | 6,300
Precious Coral | Black Coral | 2,100
| Precious Corals in the CNMI Exploratory Area | 2,205
Coral Reef Ecosystem | Lethrinidae—emperors | 27,466
| Carangidae—jacks | 21,512
| Acanthuridae—surgeonfish | 6,884
| Selar crumenophthalmus—atulai or bigeye scad | 7,459
| Serranidae—groupers | 5,519
| Lutjanidae—snappers | 3,905
| Mullidae—goatfish | 3,670
| Scaridae—parrotfish | 3,784
| Mollusks—turbo snail; octopus; giant clams | 4,446
| Mugilidae—mullets | 3,308
| Siganidae—rabbitfish | 2,537
| Bolbometopon muricatum—bumphead parrotfish | ¹ 797
| Cheilinus undulatus Humphead (Napoleon) wrasse | 2,009
| Carcharhinidae—Reef Sharks | 5,600
| All Other CREMUS combined | 9,820
¹ (CNMI and Guam combined).

Table 4—Hawaii
Fishery | Management unit species | Final ACL specification (lb)
Bottomfish | Non-Deep 7 Bottomfish | 140,000
Crustacean | Deepwater Shrimp | 250,773
| Spiny Lobster | 10,000
| Slipper Lobster | 280
| Kona Crab | 27,600
Precious Coral | Auau Channel Black Coral | 5,512
| Makapuu Bed—Pink Coral | 2,205
| Makapuu Bed—Bamboo Coral | 551
| 180 Fathom Bank—Pink Coral | 489
| 180 Fathom Bank—Bamboo Coral | 123
| Brooks Bank—Pink Coral | 979
| Brooks Bank—Bamboo Coral | 245
| Kaena Point Bed—Pink Coral | 148
| Kaena Point Bed—Bamboo Coral | 37
| Keahole Bed—Pink Coral | 148
| Keahole Bed—Bamboo Coral | 37
| Precious Corals in the Hawaii Exploratory Area | 2,205
Coral Reef Ecosystem | Selar crumenophthalmus—akule or bigeye scad | 651,292
| Decapterus macarellus—opelu or mackerel scad | 393,563
| Carangidae—jacks | 193,423
| Mullidae—goatfish | 125,813
| Acanthuridae—surgeonfish | 80,545
| Lutjanidae—snappers | 65,102
| Holocentridae—squirrelfish | 44,122
| Mugilidae—mullets | 41,112
| Mollusks—turbo snails; octopus | 28,765
| Scaridae—parrotfish | 33,326
| Crustaceans—crabs | 20,686
| Carcharhinidae—Reef Sharks | 111,566
| All Other CREMUS combined | 142,282

Accountability Measures

NMFS and the Council, relying on information from local resource management agencies in American Samoa, Guam, the CNMI, and Hawaii, will conduct a post-season accounting of the annual catch for each stock and stock complex immediately after the end of the fishing year. If an ACL is exceeded, the Council will take action in accordance with 50 CFR 600.310(g), which may include a recommendation that NMFS reduce the ACL for the subsequent fishing year by the amount of the overage, or other measure, as appropriate.

Additional background information on this action is found in the preamble to the proposed specifications, and is not repeated here.

Comments and Responses

On December 20, 2013, NMFS published a request for public comments (78 FR 77089) on proposed specifications that are finalized here. The public comment period ended on January 6, 2014. NMFS received no public comments.

Classification

The Regional Administrator, NMFS PIR, determined that this action is necessary for the conservation and management of Pacific Island fishery resources, and that it is consistent with the Magnuson-Stevens Fishery Conservation and Management Act and other applicable laws.

The Chief Counsel for Regulation of the Department of Commerce certified to the Chief Counsel for Advocacy of the Small Business Administration during the proposed specification stage that this action would not have a significant economic impact on a substantial number of small entities. The factual basis for the certification was published in the proposed specifications and is not repeated here. NMFS received no comments regarding this certification; as a result, a regulatory flexibility analysis was not required, and none was prepared.

This action is exempt from review under E.O. 12866.

Authority: 16 U.S.C. 1801 et seq.

Dated: January 22, 2014.
Alan D. Risenhoover,
Director, Office of Sustainable Fisheries, performing the functions and duties of the Deputy Assistant Administrator for Regulatory Programs, National Marine Fisheries Service.

[FR Doc. 2014-01508 Filed 1-24-14; 8:45 am]

BILLING CODE 3510-22-P